DEPARTMENT OF HEALTH AND HUMAN SERVICES

Centers for Disease Control and Prevention

ICD-9-CM Coordination and Maintenance Committee Meeting; National Center for Health Statistics (NCHS), Data Policy and Standards Staff, Announces the Following Meeting

Name: ICD-9-CM Coordination and Maintenance Committee meeting.

Time and Date: 9 a.m.-5 p.m., April 18-19, 2002.

Place: Centers for Medicare and Medicaid Services (CMS) Auditorium, 7500 Security Boulevard, Baltimore, Maryland.

Status: Open to the public.

Purpose: The ICD-9-CM Coordination and Maintenance (C&M) Committee will hold its first meeting of the 2002 calendar year cycle on Thursday and Friday April 18-19, 2002. The C&M meeting is a public forum for the presentation of proposed modifications to the International Classification of Diseases, Ninth-Revision, Clinical Modification.

Matters To Be Discussed: Agenda items include: Asthma, Neurologic topics, Myasthenia gravis in crisis, Sickle Cell disease, delayed separation of umbilical cord, Facial droop, long-term antiplatelet/antithrombotic (aspirin) use, artificial heart status/complications of artificial heart, encounter for insulin pump titration and training, ICD-10 Procedure Classification System (PCS)—Update Classic Infrafascial Semm Hysterectomy (CISH), Laparoscopic Assisted Supracervical Hysterectomy (LASH), intra-arterial blood gas monitoring, multi-level spinal fusion, vascular access device, addenda.

Contact Person for Additional Information: Amy Blum, Medical Classification Specialist, Data Policy and Standards Staff, NCHS, 6526 Belcrest Road, Room 1100, Hyattsville, Maryland 20782, telephone 301/458-4106 (diagnosis), Amy Gruber, Health Insurance Specialist, Division of Acute Care, CMS, 7500 Security Blvd., Room C4-07-07, Baltimore, Maryland, 21244 telephone 410-786-1542 (procedures).

Notice: In the interest of security, (CMS) has instituted stringent procedures for entrance into the building by non-government employees. Persons without a government I.D. will need to show a photo I.D. and sign-in at the security desk upon entering the building.

Notice: This is a public meeting. However, because of fire code requirements, should the number of attendants meet the room capacity, the meeting room will be closed.

The Director, Management Analysis and Services Office, has been delegated the authority to sign Federal Register notices pertaining to announcements of meetings and other committee management activities, for both CDC and the Agency for Toxic Substances and Disease Registry.

Dated: March 15, 2002.
Alvin Hall,
Acting Director, Management Analysis and Services Office, Centers for Disease Control and Prevention.

[FR Doc. 02-7185 Filed 3-25-02; 8:45 am]

BILLING CODE 4160-18-P